DEPARTMENT OF COMMERCE

National Oceanic and Atmospheric Administration

RIN 0648-XC442

South Atlantic Fishery Management Council (Council)—Public Meetings; Correction

AGENCY: National Marine Fisheries Service (NMFS), National Oceanic and Atmospheric Administration (NOAA), Commerce.

ACTION: Correction to the notice of public hearing and scoping meetings.

SUMMARY: This document corrects an error made to the email address for written comments pertaining to the Scoping Process for Amendment 5 to the Dolphin Wahoo Fishery Management Plan. The original document published in the Federal Register on January 15, 2013, and all other information remains unchanged and will not be repeated in this document.

DATES: Written comments may also be directed to Bob Mahood, Executive Director, SAFMC (see Council address). Comments will be accepted until 5 p.m. on February 4, 2013.

ADDRESSES: Council address: South Atlantic Fishery Management Council, 4055 Faber Place Drive, Suite 201, N. Charleston, SC 29405.

FOR FURTHER INFORMATION CONTACT: Kim Iverson, Public Information Officer, SAFMC; phone 843/571-4366 or toll free 866/SAFMC-10; Fax 843/769-4520; email: kim.iverson@safmc.net.

SUPPLEMENTARY INFORMATION:

Correction

In the Federal Register of January 15, 2013, in FR Doc. 2013-00601, on page 2955, in the first column, item 3 is corrected to read as follows:

3. Written comments may be directed to Bob Mahood, Executive Director, SAFMC (see Council address) or via email to: DWAmend5Comments@safmc.net. Comments will be accepted until 5 p.m. on February 4, 2013.

Authority: 16 U.S.C. 1801 et seq.

Dated: January 15, 2013.
Tracey L Thompson,
Acting Deputy Director, Office of Sustainable Fisheries, National Marine Fisheries Service.

[FR Doc. 2013-00998 Filed 1-17-13; 8:45 am]

BILLING CODE 3510-22-P